DEPARTMENT OF EDUCATION

[CFDA Nos.: 84.141A and 84.149A]

Notice Inviting Applications for New Awards for Fiscal year (FY) 2001 for the High School Equivalency Program (HEP) and the Colleges Assistance Migrant Program (CAMP)—Correction.

AGENCY: Department of Education.

ACTION: Notice inviting applications for new awards for fiscal year (FY) 2001 for the high school equivalency program (HEP) and the college assistance migrant program (CAMP)—Correction.

SUMMARY: On January 25, 2001 a notice inviting applications for new awards for fiscal year (FY) 2001 for the High School Equivalency Program (HEP) and the College Assistance Migrant Program (CAMP) was published in the Federal Register (66 FR 7748). This document corrects the Deadline for Transmittal of Applications and also corrects the Deadline for Intergovernmental Review. The new dates are shown below:

Deadline for Transmittal of Applications: April 23, 2001.

Deadline for Intergovernmental Review: June 23, 2001.

FOR FURTHER INFORMATION CONTACT: To obtain a copy of the application or to obtain information on the program, call or write Mary L. Suazo, U.S. Department of Education, Office of Elementary and Secondary Education, Office of Migrant Education, 400 Maryland Avenue, SW., Room 3E227, FOB 6, Washington, DC 20202-6135. Telephone Number: (202) 260-1396. Inquiries may be sent by e-mail to mary_suazo@ed.gov or by FAX at (202) 205-0089. A copy of the application can be obtained electronically at: http://www.ed.gov/grantapps

Individuals who use a telecommunications device for the deaf (TDD) may call the Federal Information Relay Service (FIRS) at 1-800-877-8339.

Individuals with disabilities may obtain this document in an alternate format (e.g., Braille, large print, audiotape, or computer diskette) on request to the contact person listed in the preceding paragraph.

Electronic Access to This Document

You may view this document, as well as all other Department of Education documents published in the Federal Register, in text or Adobe Portable Document Format (PDF) on the Internet at either of the following sites:

http://ocfo.ed.gov/fedreg.htm

http://www.ed.gov/news.htm

To use PDF you must have Adobe Acrobat Reader, which is available free at either of the previous sites. If you have questions about using PDF, call the U.S. Government Printing Office toll free at 1-888-293-6498; or in the Washington, DC area at (202) 512-1530.

Note: The official version of this document is the document published in the Federal Register. Free Internet access to the official edition of the Federal Register and the Code of Federal Regulations is available on GPO Access at: http://www.access.gpo.gov/nara/index.htm

Program Authority: 20 U.S.C. 1070d-2.

Dated: February 28, 2001.
Thomas M. Corwin,
Acting Deputy Assistant Secretary for Elementary and Secondary Education.

[FR Doc. 01-5255 Filed 3-2-01; 8:45 am]

BILLING CODE 4000-01-M